FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
004662N | Sanyo Logistics Corporation, 3625 Del Amo Blvd., Suite 105, Torrance, CA 90503 | April 8, 2010.
009741N | Covan International, Inc., 1 Covan Drive, Midland City, AL 36350 | April 15, 2010.
017845N | Uniworld Express, Inc., 520 Carson Plaza Ct., Suite 211, Carson, CA 90746 | April 24, 2010.
020849N | Master Freight America, Corp., 2025 NW 102nd Avenue, Unit 111, Miami, FL 33172 | March 11, 2010.

Sandra L. Kusumoto,
Director, Bureau of Certification and Licensing.

[FR Doc. 2010-12056 Filed 5-19-10; 8:45 am]

BILLING CODE 6730-01-P